NATIONAL ARCHIVES AND RECORDS ADMINISTRATION

36 CFR Part 1253

RIN 3095-AB47

NARA Facility Locations and Hours

AGENCY: National Archives and Records Administration (NARA).

ACTION: Final rule.

SUMMARY: NARA is adding to its regulations the location of the William J. Clinton Presidential Library in Little Rock, Arkansas, and revising the location and hours for the regional archives in NARA's Southeast Region (Atlanta) in Morrow, Georgia. This final rule will affect the public.

DATES: Effective Date: June 2, 2005.

FOR FURTHER INFORMATION CONTACT: Jennifer Davis Heaps at 301-837-1801.

SUPPLEMENTARY INFORMATION: The proposed rule was published in the February 7, 2005, Federal Register (70 FR 6386) for a 60-day public comment period. A copy of the proposed rule was also posted on the NARA Web site.

NARA received no comments on the proposed rule. The telephone number for the Morrow, Georgia, facility changed after the proposed rule was published. The new number is published in this final rule and there are no other changes.

This rule is not a significant regulatory action for the purposes of Executive Order 12866 and has not been reviewed by the Office of Management and Budget (OMB). As required by the Regulatory Flexibility Act, it is hereby certified that this rule will not have a significant impact on a substantial number of small entities because this rule applies to individual researchers. This rule does not have any federalism implications.

List of Subjects in 36 CFR Part 1253

Archives and records.

For the reasons set forth in the preamble, NARA amends part 1253 of title 36, Code of Federal Regulations, as follows:

PART 1253—LOCATIONS OF RECORDS AND HOURS OF USE

1. The authority citation for part 1253 continues to read as follows:

Authority: 44 U.S.C. 2104(a).

2. Amend § 1253.3 by adding paragraph (k) to read as follows:

§ 1253.3 Presidential Libraries.

* * * * *

(k) William J. Clinton Library is located at 1200 President Clinton Avenue, Little Rock, AR 72201. The phone number is 501-374-4242 and the fax number is 501-244-2883. The e-mail address is clinton.library@nara.gov.

3. Amend § 1253.7 by revising paragraph (e) to read as follows:

§ 1253.7 Regional Archives.

* * * * *

(e) NARA—Southeast Region (Atlanta) is located at 5780 Jonesboro Road, Morrow, GA 30260. The hours are 8:30 a.m. to 5 p.m., Tuesday through Saturday. The telephone number is 770-968-2100.

* * * * *

Dated: April 27, 2005.
Allen Weinstein,
Archivist of the United States.

[FR Doc. 05-8768 Filed 5-2-05; 8:45 am]

BILLING CODE 7515-01-P